DEPARTMENT OF EDUCATION

Applications for New Awards; Supporting Effective Educator Development Program

AGENCY: Office of Elementary and Secondary Education, Department of Education.

ACTION: Notice.

SUMMARY: The Department of Education (Department) is issuing a notice inviting applications for fiscal year (FY) 2022 for the Supporting Effective Educator Development (SEED) program, Assistance Listing Number 84.423A. This notice relates to the approved information collection under OMB control number 1894-0006.

DATES:

Applications Available: April 4, 2022.

Deadline for Notice of Intent to Apply: Applicants are strongly encouraged, but not required, to submit a notice of intent to apply by May 4, 2022.

Deadline for Transmittal of Applications: June 3, 2022.

Deadline for Intergovernmental Review: August 2, 2022.

Pre-Application Webinars: The Office of Elementary and Secondary Education intends to post pre-recorded informational webinars designed to provide technical assistance to interested applicants for grants under the SEED program. These informational webinars will be available on the SEED web page shortly after this notice is published in the Federal Register at oese.ed.gov/offices/office-of-discretionary-grants-support-services/effective-educator-development-programs/supporting-effective-educator-development-grant-program/applicant-info/.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phaseout of DUNS numbers is available at https://www2.ed.gov/about/offices/list/ofo/docs/unique-entity-identifier-transition-fact-sheet.pdf.

FOR FURTHER INFORMATION CONTACT: Christine Miller, U.S. Department of Education, 400 Maryland Avenue SW, Room 3C152, Washington, DC 20222-5960. Telephone: (202)260-7350. Email: Christine.Miller@ed.gov or SEED@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The SEED program, authorized under section 2242 of the Elementary and Secondary Education Act of 1965, as amended (ESEA) (20 U.S.C. 6672), provides funding to increase the number of highly effective educators by supporting the implementation of Evidence-Based ¹ practices that prepare, develop, or enhance the skills of educators. These grants will allow eligible entities to develop, expand, and evaluate practices that can serve as models to be sustained and disseminated.

¹ Throughout this notice, all defined terms are denoted with capitals.

Background: The SEED program is designed to foster the use of rigorous Evidence-Based practices in selecting and implementing strategies and interventions that support educators' development across the continuum of their careers (e.g., in preparation, recruitment, professional learning, and leadership development). The Biden-Harris Administration has made a commitment to supporting targeted efforts that will provide comprehensive, high-quality pathways, such as residency and Grow Your Own programs, for educator preparation and development programs focused on building a more diverse educator pipeline. The Administration is also committed to increasing the retention of a diverse educator workforce. Research shows that teachers who have access to these kinds of comprehensive pathways into the profession have higher rates of retention and increased effectiveness compared to teachers who received less comprehensive preparation.²

² Silva, T., McKie, A., and Gleason, P. (2015). New Findings on the Retention of Novice Teachers from Teaching Residency Programs. Washington, DC: National Center for Education Evaluation and Regional Assistance, Institute of Education Sciences. https://ies.ed.gov/ncee/pubs/20154015/pdf/20154015.pdf.

This competition includes two absolute priorities. Absolute Priority 1, Supporting Effective Teachers, which requires Moderate Evidence, and Absolute Priority 2, Supporting Effective Principals or Other School Leaders, which requires Promising Evidence, are from section 2242 of the ESEA (20 U.S.C. 6672) and 34 CFR 75.226. This competition also includes three areas of particular interest to the Administration. Competitive Preference Priority 1 focuses on promoting educator diversity in classrooms across the Nation. While teachers of color benefit all students, they can have a particularly strong positive impact on students of color.³ Yet only around one in five teachers ⁴ are people of color, compared to more than half of K-12 public school students.⁵ The Department recognizes that a diverse educator workforce plays a critical role in ensuring equity in our schools, while also supporting intercultural experiences and competencies in our education system that will benefit and improve the opportunities for all students.

³ https://learningpolicyinstitute.org/product/diversifying-teaching-profession-report.

⁴ www.bls.gov/cps/cpsaat11.htm.

⁵ nces.ed.gov/programs/coe/indicator_cge.asp.

Competitive Preference Priority 2 focuses on the importance of preparing teachers to create inclusive, supportive, equitable, unbiased, and identity-safe learning environments for their students. Research has demonstrated that, in elementary and secondary schools, children and youth learn, grow, and achieve at higher levels in safe and supportive environments, and in the care of responsive adults they can trust.⁶ This priority will allow applicants to propose a project designed to promote educational equity and adequacy in resources and opportunity for underserved students.

⁶ Reyes, M.R., Brackett, M.A., Rivers, SE, White, M., & Salovey, P. (2012). Classroom Emotional Climate, Student Engagement, and Academic Achievement. Journal of Educational Psychology, 104 (3), 700.

Competitive Preference Priority 3 provides explicit support for developing students' social and emotional skills, such as their ability to collaborate with peers and persist through challenging tasks. The priority directs applicants to incorporate pathways into teaching that provide a strong foundation in child and adolescent development and learning, including skills for implementing social and emotional learning strategies in the classroom.

Finally, this notice incorporates a newly established definition for National Nonprofit. The definition incorporates the definition of “nonprofit” under 34 CFR 77.1(c) but also clarifies how an entity demonstrates that its work is “national” in scope. The definition specifies that the nonprofit organization must provide services in three or more States.

Priorities: This notice contains two absolute priorities and three competitive preference priorities. In accordance with 34 CFR 75.105(b)(2)(iv), Absolute Priority 1, which requires Moderate Evidence, and Absolute Priority 2, which requires Promising Evidence, are from section 2242 of the ESEA (20 U.S.C. 6672) and 34 CFR 75.226. Competitive Preference Priority 1 is from the Effective Educator Development (EED) notice of final priorities published in the Federal Register on July 9, 2021 (86 FR 36217) (EED NFP). Competitive Preference Priorities 2 and 3 are from the Secretary's notice of final supplemental priorities and definitions published in the Federal Register on December 10, 2021 (86 FR 70612) (Supplemental Priorities).

Under the SEED grant competition, each of the two absolute priorities constitutes its own funding category. The Secretary intends to award grants under each absolute priority for which applications of sufficient quality are submitted.

Absolute Priorities: For FY 2022 and any subsequent year in which we make awards from the list of unfunded applications from this competition, these priorities are absolute priorities. Under 34 CFR 75.105(c)(3), we consider only applications that meet one of these absolute priorities. Applicants may address only one absolute priority and must clearly indicate the specific absolute priority their project addresses.

These priorities are:

Absolute Priority 1—Supporting Effective Teachers.

This priority is for projects that will implement activities that are supported by Moderate Evidence. Applicants under this priority may propose one or more of the following activities:

(1) Providing teachers from nontraditional preparation and certification routes or pathways to serve in traditionally underserved Local Educational Agencies (LEAs); or

(2) Providing teachers with Evidence-Based professional enhancement activities, which may include activities that lead to an advanced credential.

Absolute Priority 2—Supporting Effective Principals or Other School Leaders.

This priority is for projects that will implement activities that are supported by Promising Evidence. Applicants under this priority may propose one or more of the following activities:

(1) Providing principals or other School Leaders from nontraditional preparation and certification routes or pathways to serve in traditionally underserved LEAs;

(2) Providing principals or other School Leaders with Evidence-Based Professional Development activities that address literacy, numeracy, remedial, or other needs of LEAs and the students the agencies serve; or

(3) Providing principals or other School Leaders with Evidence-Based professional enhancement activities, which may include activities that lead to an advanced credential.

Note on Meeting Evidence Requirements: An applicant must identify at least one, but no more than two, citations for the purposes of meeting the evidence requirements under either Absolute Priority 1 or Absolute Priority 2. An applicant should clearly identify these citations in the Evidence form. The Department will not review a citation that an applicant fails to clearly identify for review. Studies included for review may have been conducted by the applicant or by a third party.

In addition to including up to two citations, an applicant must provide a description of (1) the positive outcome(s) and practice(s) the applicant intends to replicate under its SEED grant and (2) the relevance of the outcome(s) and practice(s) to the SEED program. For those applicants seeking to address Absolute Priority 1, to meet the definition of Moderate Evidence the applicant must describe how the population it proposes to serve overlaps with the population or settings in the citations.

An applicant must ensure that all evidence is available to the Department from publicly available sources and provide links or other guidance indicating where it is available. If the Department determines that an applicant has provided insufficient information, the applicant will not have an opportunity to provide additional information at a later time. However, if the What Works Clearinghouse (WWC) ⁷ determines that a study does not provide enough information on key aspects of the study design, such as sample attrition or equivalence of intervention and comparison groups, the WWC will submit a query to the study author(s) to gather information for use in determining a study rating. Authors are asked to respond to queries within 10 business days. Should the author query remain incomplete within 14 days of the initial contact to the study author(s), the study will be deemed ineligible under the grant competition. After the grant competition closes, the WWC will continue to include responses to author queries and will make updates to study reviews as necessary, but no additional information will be taken into account after the competition closes and the initial timeline established for response to an author query passes.

⁷ ies.ed.gov/ncee/wwc/.

Competitive Preference Priorities: For FY 2022 and any subsequent year in which we make awards from the list of unfunded applications from this competition, these priorities are competitive preference priorities. Under 34 CFR 75.105(c)(2)(i), we award up to an additional 10 points to an application, depending on how well the application addresses the competitive preference priorities.

If an applicant chooses to address one or more competitive preference priorities, the project narrative section of its application must identify its response to the competitive preference priorities it chooses to address.

These priorities are:

Competitive Preference Priority 1—Increasing Educator Diversity (up to 5 points).

Under this priority, applicants must develop projects that are designed to improve the recruitment, outreach, preparation, support, development, and retention of a diverse educator workforce through adopting, implementing, or expanding high-quality, comprehensive teacher preparation programs that have a track record of attracting, supporting, graduating, and placing underrepresented teacher candidates, and that include one year of high-quality clinical experiences (prior to becoming the teacher of record) in high-need schools.

Competitive Preference Priority 2—Promoting Equity in Student Access to Educational Resources and Opportunities (up to 3 points).

Under this priority, an applicant must demonstrate that the applicant proposes a project designed to promote educational equity and adequacy in resources and opportunity for Underserved Students—

(1) In one or more of the following educational settings:

(i) Early learning programs.

(ii) Elementary school.

(iii) Middle school.

(iv) High school.

(v) Career and technical education programs.

(vi) Out-of-school-time settings.

(vii) Alternative schools and programs.

(viii) Juvenile justice system or correctional facilities;

(2) That examines the sources of inequity and inadequacy and implements responses that include pedagogical practices in Educator preparation programs and professional development programs that are inclusive with regard to race, ethnicity, culture, language, and disability status so that educators are better prepared to create inclusive, supportive, equitable, unbiased, and identity-safe learning environments for their students.

Competitive Priority 3—Meeting Student Social, Emotional, and Academic Needs (up to 2 points).

Projects that are designed to improve students' social, emotional, academic, and career development, with a focus on Underserved Students, through developing and supporting Educator and school capacity to support social and emotional learning and development that—

(1) Fosters skills and behaviors that enable academic progress;

(2) Identifies and addresses conditions in the learning environment, that may negatively impact social and emotional well-being for Underserved Students, including conditions that affect physical safety; and

(3) Is trauma-informed, such as addressing exposure to community-based violence and trauma specific to Military- or Veteran-Connected Students.

Definitions: The definition of “Evidence-Based” is from section 2242 of the ESEA (20 U.S.C. 6672) and section 8101 of the ESEA (20 U.S.C. 7801). The definitions of “English Learner,” “Institution of Higher Education,” which incorporates by reference section 101(a) of the Higher Education Opportunity Act (20 U.S.C. 7801(a)), “Local Educational Agency,” “Professional Development,” “School Leader,” and “State Educational Agency” are from section 8101 of the ESEA (20 U.S.C. 7801). The definitions of “Experimental Study,” “Moderate Evidence,” “Project Component,” “Promising Evidence,” “Quasi-Experimental Design Study,” “Relevant Outcome,” and “What Works Clearinghouse Handbook” are from 34 CFR 77.1. The definitions of “Children or Students With Disabilities,” “Disconnected Youth,” “Early Learning,” “Educator,” “Military- or Veteran-Connect Student,” and “Underserved Student” are from the Supplemental Priorities. The definition of “National Nonprofit” is from the notice of final definition published elsewhere in this edition of the Federal Register.

Children or Students with Disabilities means children with disabilities as defined in section 602(3) of the Individuals with Disabilities Education Act (IDEA) (20 U.S.C. 1401(3)) and 34 CFR 300.8, or students with disabilities, as defined in the Rehabilitation Act of 1973 (29 U.S.C. 705(37), 705(202)(B)).

Disconnected Youth means an individual, between the ages 14 and 24, who may be from a low-income background, experiences homelessness, is in foster care, is involved in the justice system, or is not working or not enrolled in (or at risk of dropping out of) an educational institution.

Early Learning means any—

(1) State-licensed or State-regulated program or provider, regardless of setting or funding source, that provides early care and education for children from birth to kindergarten entry, including, but not limited to, any program operated by a child care center or in a family child care home;

(2) program funded by the Federal Government or State or local educational agencies (including any IDEA-funded program);

(3) Early Head Start and Head Start program;

(4) non-relative child care provider who is not otherwise regulated by the State and who regularly cares for two or more unrelated children for a fee in a provider setting; and

(5) other program that may deliver early learning and development services in a child's home, such as the Maternal, Infant, and Early Childhood Home Visiting Program; Early Head Start; and Part C of IDEA.

Educator means, for purposes of Competitive Preferences 2 and 3, an individual who is an Early Learning Educator, teacher, principal or other school leader, specialized instructional support personnel (e.g., school psychologist, counselor, school social worker, early intervention service personnel), paraprofessional, or faculty.

English Learner means, when used with respect to an individual, an individual—

(1) Who is aged 3 through 21;

(2) Who is enrolled or preparing to enroll in an elementary school or secondary school;

(3)(i) Who was not born in the United States or whose native language is a language other than English;

(ii)(A) Who is a Native American or Alaska Native, or a native resident of the outlying areas; and

(B) Who comes from an environment where a language other than English has had a significant impact on the individual's level of English language proficiency; or

(iii) Who is migratory, whose native language is a language other than English, and who comes from an environment where a language other than English is dominant; and

(4) Whose difficulties in speaking, reading, writing, or understanding the English language may be sufficient to deny the individual—

(i) The ability to meet the challenging State academic standards;

(ii) The ability to successfully achieve in classrooms where the language of instruction is English; or

(iii) The opportunity to participate fully in society.

Evidence-Based, when used with respect to a State, LEA, or school activity, means an activity, strategy, or intervention that demonstrates a statistically significant effect on improving student outcomes or other Relevant Outcomes based on—

(1) Strong evidence from at least one well-designed and well-implemented Experimental Study;

(2) Moderate Evidence from at least one well designed and well-implemented Quasi-Experimental Study; or

(3) Promising Evidence from at least one well-designed and well-implemented correlational study with statistical controls for selection bias.

Experimental Study means a study that is designed to compare outcomes between two groups of individuals (such as students) that are otherwise equivalent except for their assignment to either a treatment group receiving a Project Component or a control group that does not. Randomized controlled trials, regression discontinuity design studies, and single-case design studies are the specific types of Experimental Studies that, depending on their design and implementation (e.g., sample attrition in randomized controlled trials and regression discontinuity design studies), can meet What Works Clearinghouse (WWC) standards without reservations as described in the WWC Handbooks:

(1) A randomized controlled trial employs random assignment of, for example, students, teachers, classrooms, or schools to receive the Project Component being evaluated (the treatment group) or not to receive the Project Component (the control group).

(2) A regression discontinuity design study assigns the Project Component being evaluated using a measured variable (e.g., assigning students reading below a cutoff score to tutoring or developmental education classes) and controls for that variable in the analysis of outcomes.

(3) A single-case design study uses observations of a single case (e.g., a student eligible for a behavioral intervention) over time in the absence and presence of a controlled treatment manipulation to determine whether the outcome is systematically related to the treatment.

Institution of Higher Education (IHE) means an educational institution in any State that—

(1) Admits as regular students only persons having a certificate of graduation from a school providing secondary education, or the recognized equivalent of such a certificate, or persons who meet the requirements of section 484(d) of the Higher Education Act of 1965, as amended (HEA);

(2) Is legally authorized within such State to provide a program of education beyond secondary education;

(3) Provides an educational program for which the institution awards a bachelor's degree or provides not less than a 2-year program that is acceptable for full credit toward such a degree, or awards a degree that is acceptable for admission to a graduate or professional degree program, subject to review and approval by the Secretary;

(4) Is a public or other nonprofit institution; and

(5) Is accredited by a nationally recognized accrediting agency or association, or if not so accredited, is an institution that has been granted pre-accreditation status by such an agency or association that has been recognized by the Secretary for the granting of pre-accreditation status, and the Secretary has determined that there is satisfactory assurance that the institution will meet the accreditation standards of such an agency or association within a reasonable time.

Local Educational Agency (LEA) means:

(1) In General. A public board of education or other public authority legally constituted within a State for either administrative control or direction of, or to perform a service function for, public elementary schools or secondary schools in a city, county, township, school district, or other political subdivision of a State, or of or for a combination of school districts or counties that is recognized in a State as an administrative agency for its public elementary schools or secondary schools.

(2) Administrative Control and Direction. The term includes any other public institution or agency having administrative control and direction of a public elementary school or secondary school.

(3) Bureau of Indian Education Schools. The term includes an elementary school or secondary school funded by the Bureau of Indian Education but only to the extent that including the school makes the school eligible for programs for which specific eligibility is not provided to the school in another provision of law and the school does not have a student population that is smaller than the student population of the LEA receiving assistance under the ESEA with the smallest student population, except that the school shall not be subject to the jurisdiction of any SEA other than the Bureau of Indian Education.

(4) Educational Service Agencies. The term includes educational service agencies and consortia of those agencies.

(5) State Educational Agency. The term includes the SEA in a State in which the SEA is the sole educational agency for all public schools.

Military- or Veteran-Connected Student means one or more of the following:

(a) A child participating in an Early Learning program, a student enrolled in preschool through grade 12, or a student enrolled in career and technical education or postsecondary education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(b) A student who is a member of the uniformed services, a veteran of the uniformed services, or the spouse of a service member or veteran.

(c) A child participating in an Early Learning program, a student enrolled in preschool through grade 12, or a student enrolled in career and technical education or postsecondary education who has a parent or guardian who is a veteran of the uniformed services (as defined by 37 U.S.C. 101).

Moderate Evidence means that there is evidence of effectiveness of a key Project Component in improving a Relevant Outcome for a sample that overlaps with the populations or settings proposed to receive that component, based on a relevant finding from one of the following:

(1) A practice guide prepared by the WWC using version 2.1, 3.0, 4.0, or 4.1 of the WWC Handbooks reporting a “strong evidence base” or “moderate evidence base” for the corresponding practice guide recommendation;

(2) An intervention report prepared by the WWC using version 2.1, 3.0, 4.0, or 4.1 of the WWC Handbooks reporting a “positive effect” or “potentially positive effect” on a Relevant Outcome based on a “medium to large” extent of evidence, with no reporting of a “negative effect” or “potentially negative effect” on a Relevant Outcome; or

(3) A single Experimental Study or Quasi-Experimental Design Study reviewed and reported by the WWC using version 2.1, 3.0, 4.0, or 4.1 of the WWC Handbooks, or otherwise assessed by the Department using version 4.1 of the WWC Handbooks, as appropriate, and that—

(i) Meets WWC standards with or without reservations;

(ii) Includes at least one statistically significant and positive (i.e., favorable) effect on a Relevant Outcome;

(iii) Includes no overriding statistically significant and negative effects on Relevant Outcomes reported in the study or in a corresponding WWC intervention report prepared under version 2.1, 3.0, 4.0, or 4.1 of the WWC Handbooks; and

(iv) Is based on a sample from more than one site (e.g., State, county, city, school district, or postsecondary campus) and includes at least 350 students or other individuals across sites. Multiple studies of the same Project Component that each meet requirements in paragraphs (3)(i), (ii), and (iii) of this definition may together satisfy this requirement.

National Nonprofit means an entity that—

(1) Meets the definition of “nonprofit” under 34 CFR 77.1(c); and

(2) Is of national scope, which requires that the entity—

(i) Provides services in three or more States; and

(ii) Demonstrates a proven record of serving or benefitting teachers, principals, or other School Leaders across these States.

Professional Development means activities that—

(1) Are an integral part of school and LEA strategies for providing educators (including teachers, principals, other School Leaders, specialized instructional support personnel, paraprofessionals, and, as applicable, early childhood educators) with the knowledge and skills necessary to enable students to succeed in a well-rounded education and to meet the challenging State academic standards; and

(2) Are sustained (not stand-alone, 1-day, or short term workshops), intensive, collaborative, job-embedded, data-driven, and classroom-focused, and may include activities that—

(i) Improve and increase teachers'—

(A) Knowledge of the academic subjects the teachers teach;

(B) Understanding of how students learn; and

(C) Ability to analyze student work and achievement from multiple sources, including how to adjust instructional strategies, assessments, and materials based on such analysis;

(ii) Are an integral part of broad schoolwide and districtwide educational improvement plans;

(iii) Allow personalized plans for each educator to address the educator's specific needs identified in observation or other feedback;

(iv) Improve classroom management skills;

(v) Support the recruitment, hiring, and training of effective teachers, including teachers who became certified through State and local alternative routes to certification;

(vi) Advance teacher understanding of—

(A) Effective instructional strategies that are Evidence-Based; and

(B) Strategies for improving student academic achievement or substantially increasing the knowledge and teaching skills of teachers;

(vii) Are aligned with, and directly related to, academic goals of the school or LEA;

(viii) Are developed with extensive participation of teachers, principals, other School Leaders, parents, representatives of Indian Tribes (as applicable), and administrators of schools to be served under the ESEA;

(ix) Are designed to give teachers of English Learners, and other teachers and instructional staff, the knowledge and skills to provide instruction and appropriate language and academic support services to those children, including the appropriate use of curricula and assessments;

(x) To the extent appropriate, provide training for teachers, principals, and other School Leaders in the use of technology (including education about the harms of copyright piracy), so that technology and technology applications are effectively used in the classroom to improve teaching and learning in the curricula and academic subjects in which the teachers teach;

(xi) As a whole, are regularly evaluated for their impact on increased teacher effectiveness and improved student academic achievement, with the findings of the evaluations used to improve the quality of Professional Development;

(xii) Are designed to give teachers of children with disabilities or children with developmental delays, and other teachers and instructional staff, the knowledge and skills to provide instruction and academic support services, to those children, including positive behavioral interventions and supports, multi-tier system of supports, and use of accommodations;

(xiii) Include instruction in the use of data and assessments to inform and instruct classroom practice;

(xiv) Include instruction in ways that teachers, principals, other School Leaders, specialized instructional support personnel, and school administrators may work more effectively with parents and families;

(xv) Involve the forming of partnerships with IHEs, including, as applicable, Tribal Colleges and Universities as defined in section 316(b) of the HEA (20 U.S.C. 1059c(b)), to establish school-based teacher, principal, and other School Leader training programs that provide prospective teachers, novice teachers, principals, and other School Leaders with an opportunity to work under the guidance of experienced teachers, principals, other School Leaders, and faculty of such institutions;

(xvi) Create programs to enable paraprofessionals (assisting teachers employed by an LEA receiving assistance under part A of title I of the ESEA) to obtain the education necessary for those paraprofessionals to become certified and licensed teachers;

(xvii) Provide follow-up training to teachers who have participated in activities described in paragraph (2) of this definition that are designed to ensure that the knowledge and skills learned by the teachers are implemented in the classroom; and

(xviii) Where practicable, provide jointly for school staff and other early childhood education program providers, to address the transition to elementary school, including issues related to school readiness.

Project Component means an activity, strategy, intervention, process, product, practice, or policy included in a project. Evidence may pertain to an individual project component or to a combination of project components (e.g., training teachers on instructional practices for English learners and follow-on coaching for these teachers).

Promising Evidence means that there is evidence of the effectiveness of a key Project Component in improving a Relevant Outcome, based on a relevant finding from one of the following:

(1) A practice guide prepared by WWC reporting a “strong evidence base” or “moderate evidence base” for the corresponding practice guide recommendation;

(2) An intervention report prepared by the WWC reporting a “positive effect” or “potentially positive effect” on a Relevant Outcome with no reporting of a “negative effect” or “potentially negative effect” on a Relevant Outcome; or

(3) A single study assessed by the Department, as appropriate, that—

(i) Is an Experimental Study, a Quasi-Experimental Design Study, or a well-designed and well-implemented correlational study with statistical controls for selection bias (e.g., a study using regression methods to account for differences between a treatment group and a comparison group); and

(ii) Includes at least one statistically significant and positive (i.e., favorable) effect on a Relevant Outcome.

Quasi-Experimental Design Study means a study using a design that attempts to approximate an Experimental Study by identifying a comparison group that is similar to the treatment group in important respects. This type of study, depending on design and implementation (e.g., establishment of baseline equivalence of the groups being compared), can meet WWC standards with reservations, but cannot meet WWC standards without reservations, as described in the WWC Handbook.

Relevant Outcome means the student outcome(s) or other outcome(s) the key Project Component is designed to improve, consistent with the specific goals of the program.

School Leader means a principal, assistant principal, or other individual who is—

(1) An employee or officer of an elementary school or secondary school, LEA, or other entity operating an elementary school or secondary school; and

(2) Responsible for the daily instructional leadership and managerial operations in the elementary school or secondary school building.

State Educational Agency (SEA) means the agency primarily responsible for the State supervision of public elementary schools and secondary schools.

Underserved Student means a student (which may include children in Early Learning environments, students in K-12 programs, students in postsecondary education or career and technical education, and adult learners, as appropriate) in one or more of the following subgroups:

(a) A student who is living in poverty or is served by schools with high concentrations of students living in poverty.

(b) A student of color.

(c) A student who is a member of a federally recognized Indian Tribe.

(d) An English learner.

(e) A Child or Student with a Disability.

(f) A Disconnected Youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student who is the first in their family to attend postsecondary education.

(p) A student enrolling in or seeking to enroll in postsecondary education for the first time at the age of 20 or older.

(q) A student who is working full-time while enrolled in postsecondary education.

(r) A student who is enrolled in or is seeking to enroll in postsecondary education who is eligible for a Pell Grant.

(s) An adult student in need of improving their basic skills or an adult student with limited English proficiency.

(t) A student performing significantly below grade level.

(u) A Military- or Veteran-Connected Student.

For the purposes of this definition only “English learner” means an individual who is an English learner as defined in section 8101(20) of the ESEA, or an individual who is an English language learner as defined in section 203(7) of the Workforce Innovation and Opportunity Act.

What Works Clearinghouse (WWC) Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The WWC Handbooks are available at ies.ed.gov/ncee/wwc/Handbooks.

Program Authority: Section 2242 of the ESEA (20 U.S.C. 6672).

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) EED NFP. (e) The Supplemental Priorities. (f) The notice of final definition published elsewhere in this edition of the Federal Register.

Note: The regulations in 34 CFR part 86 apply to IHEs only.

II. Award Information

Type of Award: Discretionary grants.

Estimated Available Funds: $65,000,000.

Contingent upon the availability of funds and the quality of applications, we may make additional awards in subsequent years from the list of unfunded applications from this competition.

Estimated Range of Awards: $1,000,000-$6,000,000 per project year.

Estimated Average Size of Awards: $3,500,000 per project year.

Estimated Number of Awards: 16-20.

Note: The Department is not bound by any estimates in this notice.

Project Period: Up to 36 months.

III. Eligibility Information

1. Eligible Applicants:

(a) An IHE that provides course materials or resources that are Evidence-Based in increasing academic achievement, graduation rates, or rates of postsecondary education matriculation;

(b) A National Nonprofit organization with a demonstrated record of raising student academic achievement, graduation rates, and rates of higher education attendance, matriculation, or completion, or of effectiveness in providing preparation and Professional Development activities and programs for teachers, principals, or other School Leaders;

(c) The Bureau of Indian Education; or

(d) A partnership consisting of—

(i) One or more entities described in paragraph (a) or (b); and

(ii) A for-profit entity.

If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: Under section 2242 of the ESEA, each grant recipient must provide, from non-Federal sources, at least 25 percent of the total cost for each year of the project activities. These funds may be provided in cash or through in-kind contributions. Grantees must include a budget showing their matching contributions on an annual basis relative to the annual budget amount of SEED grant funds and must provide evidence of their matching contributions for the first year of the grant in their grant applications.

Note: The combination of Federal and non-Federal funds should equal the total cost of the project. Therefore, grantees are generally required to support no less than 25 percent of the total cost of the project with non-Federal funds. Grantees are strongly encouraged to take this requirement into account when requesting Federal funds and limit their request appropriately and should verify that their budgets reflect the costs allocations appropriately. (Cost share formula: Total program cost (the amount of the Federal grant + the amount of the non-Federal match) × .75 = Federal award amount).

b. Supplement-Not-Supplant: This program involves supplement-not-supplant funding requirements. Under section 2301 of the ESEA (20 U.S.C. 6691), funds made available under title II of the ESEA must be used to supplement, and not supplant, non-Federal funds that would otherwise be used for activities authorized under this title. Further, the prohibition against supplanting funds also means that grantees seeking to charge indirect costs to SEED funds will need to use a restricted indirect cost rates. See 34 CFR 75.563.

c. Indirect Cost Rate Information: This program uses a restricted indirect cost rate. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: (a) Under 34 CFR 75.708(b) and (c) a grantee under this competition may award subgrants—to directly carry out project activities described in its application—to the following types of entities: LEAs, IHEs, State and local governments, and other public or private entities suitable to carry out the activities proposed in the application.

(b) The grantee may award subgrants to entities it has identified in an approved application or under procedures established by the grantee.

4. Certification: Pursuant to section 2242 of the ESEA (20 U.S.C. 6672), applicants must include a certification that the services provided by an eligible entity under the grant to an LEA or to a school served by the LEA will not result in direct fees for participating students or parents.

5. Renewal: Under section 2242(b)(2) of the ESEA (20 U.S.C. 6672), the Secretary may renew a grant awarded under this section for one additional two-year period.

Note: During the course of the third year of the project period for grants awarded under this competition, we will provide details on the potential renewal process. In making decisions on whether to award a two-year renewal award, we will review performance data submitted in regularly required reporting, as well as potentially request narrative information to be assessed using selection criteria from 34 CFR 75.210.

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Submission of Proprietary Information: Given the types of projects that may be proposed in applications for the SEED program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to 40 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

6. Notice of Intent to Apply: The Department will be able to develop a more efficient process for reviewing grant applications if it has a better understanding of the number of entities that intend to apply for funding under this competition. Therefore, we strongly encourage each potential applicant to notify us of their intent to submit an application for funding by sending an email to SEED@ed.gov with FY 2022 SEED Intent to Apply in the subject line, by May 4, 2022. Applicants that do not send a notice of intent to apply may still apply for funding.

V. Application Review Information

1. Selection Criteria: The selection criteria for this competition are from 34 CFR 75.210. An applicant may earn up to a total of 100 points based on the selection criteria. The maximum score for each criterion is indicated in parentheses. Each criterion also includes the factors that the reviewers will consider in determining how well an application meets the criterion. The criteria are as follows:

(a) Quality of the Project Design (35 points). The Secretary considers the quality of the design of the proposed project. In determining the quality of the design of the proposed project, the Secretary considers the following factors:

(1) The extent to which the training or professional development services to be provided by the proposed project are of sufficient quality, intensity, and duration to lead to improvements in practice among the recipients of those services.

(2) The extent to which the proposed project is designed to build capacity and yield results that will extend beyond the period of Federal financial assistance.

(3) The extent to which there is a conceptual framework underlying the proposed research or demonstration activities and the quality of that framework.

(4) The extent to which the services to be provided by the proposed project involve the collaboration of appropriate partners for maximizing the effectiveness of project services.

(5) The extent to which the design of the proposed project is appropriate to, and will successfully address, the needs of the target population or other identified needs.

(b) Significance (25 points).

The Secretary considers the significance of the proposed project. In determining the significance of the proposed project, the Secretary considers the following factors:

(1) The importance or magnitude of the results or outcomes likely to be attained by the proposed project, especially improvements in teaching and student achievement.

(2) The extent to which the costs are reasonable in relation to the number of persons to be served and to the anticipated results and benefits.

(3) The potential for the incorporation of project purposes, activities, or benefits into the ongoing program of the agency or organization at the end of Federal funding.

(4) The extent to which the results of the proposed project are to be disseminated in ways that will enable others to use the information or strategies.

(c) Quality of the Management Plan (20 points). The Secretary considers the quality of the management plan for the proposed project. In determining the quality of the management plan for the proposed project, the Secretary considers the following factors:

(1) The extent to which the goals, objectives, and outcomes to be achieved by the proposed project are clearly specified and measurable.

(2) The adequacy of the management plan to achieve the objectives of the proposed project on time and within budget, including clearly defined responsibilities, timelines, and milestones for accomplishing project tasks.

(d) Quality of the Project Evaluation (20 points). The Secretary considers the quality of the evaluation to be conducted of the proposed project. In determining the quality of the evaluation, the Secretary considers the following factors:

(1) The extent to which the methods of evaluation will, if well implemented, produce evidence about the project's effectiveness that would meet the WWC standards with or without reservations as described in the WWC Handbook.

(2) The extent to which the methods of evaluation will provide performance feedback and permit periodic assessment of progress toward achieving intended outcomes.

(3) The extent to which the methods of evaluation include the use of objective performance measures that are clearly related to the intended outcomes of the project and will produce quantitative and qualitative data to the extent possible.

(4) The extent to which the methods of evaluation will provide valid and reliable performance data on Relevant Outcomes.

(5) The extent to which the design for implementing and evaluating the proposed project will result in information to guide possible replication of project activities or strategies, including information about the effectiveness of the approach or strategies employed by the project.

Note: Applicants may wish to review technical assistance resources on evaluation relevant to the SEED program available at https://oese.ed.gov/offices/office-of-discretionary-grants-support-services/effective-educator-development-programs/supporting-effective-educator-development-grant-program/.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Additional factors we consider in selecting an application for an award are as follows:

(a) As required under section 2242 of the ESEA, the Secretary must ensure that, to the extent practicable, grants are distributed among eligible entities that will serve geographically diverse areas, including urban, suburban, and rural areas.

(b) As required under section 2242 of the ESEA, the Department must not award more than one grant under this program to an eligible entity during a grant competition. If an entity submits multiple applications for this competition, only the highest rated application will be considered for an award.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purpose of Department reporting under 34 CFR 75.110, we have established the following performance measures for the SEED program: (a) The percentage of teacher, principal, or other School Leader participants who serve concentrations of high-need students; (b) the percentage of teacher and principal participants who serve concentrations of high-need students and are highly effective; (c) the percentage of teacher and principal participants who serve concentrations of high-need students, are highly effective, and serve for at least two years; (d) the cost per such participant; and (e) the number of grantees with evaluations that meet the WWC standards with reservations. Grantees will report annually on each measure.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Ruth E. Ryder,
Deputy Assistant Secretary for Policy and Programs Office of Elementary and Secondary Education.

[FR Doc. 2022-06963 Filed 4-1-22; 8:45 am]

BILLING CODE 4000-01-P